FEDERAL MARITIME COMMISSION

Notice of Agreement Filed

The Commission hereby gives notice of filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreement are available through the Commission's website (www.fmc.gov) or by contacting the Office of General Counsel at (202)-523-5740 or GeneralCounsel@fmc.gov.

Agreement No.: 201460.

Agreement Name: WHL/ONE Vessel Sharing Agreement.

Parties: Ocean Network Express Pte. Ltd. (ONE); Wan Hai Lines Ltd. and Wan Hai Lines (Singapore) PTE Ltd. (acting as a single party).

Filing Party: Joshua Stein, Cozen O'Connor.

Synopsis: The Agreement authorizes the parties to operate a shared service for the eastbound and westbound transportation of cargo between China and the U.S. West Coast.

Proposed Effective Date: 12/11/2025.

Location: https://www2.fmc.gov/FMC.Agreements.Web/Public/AgreementHistory/89635.

Dated: December 12, 2025.
David Eng,
Secretary.

[FR Doc. 2025-22965 Filed 12-15-25; 8:45 am]

BILLING CODE 6730-02-P